DEPARTMENT OF VETERANS AFFAIRS

Cost-Based and Inter-Agency Billing Rates for Medical Care or Services Provided by the Department of Veterans Affairs

AGENCY: Department of Veterans Affairs.

ACTION: Notice.

SUMMARY: This document updates the Cost-Based and Inter-Agency billing rates for medical care or services provided by the U.S. Department of Veterans Affairs (VA).

DATES: Effective Date: The rates set forth in this notice are effective November 4, 2014 and until further notice.

FOR FURTHER INFORMATION CONTACT: Romona Greene, Chief Business Office (10NB), Veterans Health Administration, Department of Veterans Affairs, 810 Vermont Avenue NW., Washington, DC 20420, (202) 382-2521. (This is not a toll free number.)

SUPPLEMENTARY INFORMATION: VA's methodology for computing Cost-Based and Inter-Agency billing rates for medical care or services provided by VA is set forth in 38 CFR 17.102(h). Two sets of rates are obtained by applying this methodology, Cost-Based rates and Inter-Agency rates. Cost-Based rates apply to medical care and services that are provided by VA:

(a) In error or based on tentative eligibility;

(b) In a medical emergency;

(c) To pensioners of allied nations; or

(d) For research purposes in circumstances under which VA medical care appropriation is to be reimbursed by VA research appropriation.

Inter-Agency rates apply to medical care and services that are provided by VA to beneficiaries of the Department of Defense (DoD) or other Federal agencies, when the care or services provided is not covered by an applicable sharing agreement. The Inter-Agency rates contained in this notice do not apply to sharing agreements between VA and DoD unless otherwise stated.

The calculations for the Cost-Based and Inter-Agency rates are the same with two exceptions. Inter-Agency rates are all inclusive and are not broken down into three components (Physician; Ancillary; and Nursing, Room and Board), and Inter-Agency rates do not include standard fringe benefit costs that cover government employee retirement, disability costs, and return on fixed assets. When VA pays for medical care or services from a non-VA source under circumstances in which the Cost-Based or Inter-Agency Rates would apply if the care or services had been provided by VA, the charge for such care or services will be the actual amount paid by VA for the care or services. Inpatient charges will be at the per diem rates shown for the type of bed section or discrete treatment unit providing the care.

The following table depicts the Cost Based and Inter-Agency Rates which are effective upon publication of this notice. These rates supersede those established by the Federal Register notice published on July 11, 2011 at 76 FR 40749.

| Cost-based rates | Inter-agency rates
A. Hospital Care per inpatient day
General Medicine:
All Inclusive Rate | $3,313 | $3,142
Physician | 397 |
Ancillary | 863 |
Nursing Room and Board | 2,053 |
Neurology:
All Inclusive Rate | 3,152 | 2,993
Physician | 461 |
Ancillary | 832 |
Nursing Room and Board | 1,859 |
Rehabilitation Medicine:
All Inclusive Rate | 2,480 | 2,353
Physician | 282 |
Ancillary | 758 |
Nursing Room and Board | 1,440 |
Blind Rehabilitation:
All Inclusive Rate | 1,641 | 1,557
Physician | 132 |
Ancillary | 815 |
Nursing Room and Board | 694 |
Spinal Cord Injury:
All Inclusive Rate | 2,201 | 2,089
Physician | 273 |
Ancillary | 554 |
Nursing Room and Board | 1,374 |
Surgery:
All Inclusive Rate | 5,165 | 4,899
Physician | 569 |
Ancillary | 1,567 |
Nursing Room and Board | 3,029 |
General Psychiatry:
All Inclusive Rate | 1,611 | 1,527
Physician | 152 |
Ancillary | 254 |
Nursing Room and Board | 1,205 |
Substance Abuse (Alcohol and Drug Treatment):
All Inclusive Rate | 1,363 | 1,294
Physician | 130 |
Ancillary | 315 |
Nursing Room and Board | 918 |
Psychosocial Residential Rehabilitation Program:
All Inclusive Rate | 650 | 616
Physician | 41 |
Ancillary | 68 |
Nursing Room and Board | 541 |
Intermediate Medicine:
All Inclusive Rate | 2,249 | 2,135
Physician | 111 |
Ancillary | 330 |
Nursing Room and Board | 1,808 |
Polytrauma Inpatient:
All Inclusive Rate | 3,217 | 3,058
Physician | 365 |
Ancillary | 983 |
Nursing Room and Board | 1,869 |
B. Nursing Home Care, Per Day
All Inclusive Rate | 1,082 | 1,025
Physician | 34 |
Ancillary | 146 |
Nursing Room and Board | 902 |
C. Outpatient Medical Treatments
Outpatient Visit (to include Ineligible Dental Care) | 236 | 222
Physical Medicine & Rehabilitation Service Outpatient Visit | 443 | 419
Outpatient Polytrauma/Traumatic Brain Injury | 586 | 561

Dated: October 30, 2014.
By Direction of the Secretary.
William F. Russo,
Acting Director, Office of Regulation Policy and Management, Office of the General Counsel, U.S. Department of Veterans Affairs.

[FR Doc. 2014-26148 Filed 11-3-14; 8:45 am]

BILLING CODE 8320-01-P